DEPARTMENT OF TRANSPORTATION

Federal Aviation Administration

14 CFR Part 39

[Docket No. FAA-2008-0908; Directorate Identifier 2007-NM-190-AD]

RIN 2120-AA64

Airworthiness Directives; Airbus Model A310 Series Airplanes

AGENCY: Federal Aviation Administration (FAA), Department of Transportation (DOT).

ACTION: Notice of proposed rulemaking (NPRM).

SUMMARY: The FAA proposes to supersede an existing airworthiness directive (AD) that applies to all Airbus Model A310 series airplanes. The existing AD currently requires repetitive detailed inspections to detect cracks propagating from the fastener holes that attach the left- and right-hand pick-up angles at frame 40 to the wing lower skin and fuselage panel, and corrective actions, if necessary. This proposed AD would revise the intervals for accomplishing the repetitive detailed inspections and would provide for an optional terminating modification for the repetitive inspections. This proposed AD results from mandatory continuing airworthiness information originated by an aviation authority of another country to identify and correct an unsafe condition on an aviation product. We are proposing this AD to prevent reduced structural integrity of the airplane due to fatigue damage and consequent cracking of the pick-up angles at frame 40.

DATES: We must receive comments on this proposed AD by September 25, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT:

Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2008-0908; Directorate Identifier 2007-NM-190-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 22, 2000, we issued AD 2000-26-14, amendment 39-12064 (66 FR 1031, January 5, 2001), for all Airbus Model A310 series airplanes. That AD requires repetitive detailed visual inspections to detect cracks propagating from the fastener holes that attach the left- and right-hand pick-up angles at frame 40 to the wing lower skin and fuselage panel, and corrective actions, if necessary. That AD resulted from a report indicating that structural damage was found on the pick-up angles at the junction between the wing lower surface and the fuselage skin at frame 40. We issued that AD to prevent reduced structural integrity of the airplane due to fatigue damage and consequent cracking of the pick-up angles at frame 40.

Actions Since Existing AD Was Issued

Since we issued AD 2000-26-14, European Aviation Safety Agency (EASA), which is the Technical Agent for the Member States of the European Community, has informed us that, as a result of A310 extended service goal activities, the thresholds and repetitive intervals for the existing repetitive detailed visual inspections required by AD 2000-26-14 must be modified to adequately address the identified unsafe condition.

Relevant Service Information

Airbus has issued Revision 03 of Service Bulletin A310-53-2111, dated May 21, 2007 (AD 2000-26-14 refers to Airbus Service Bulletin A310-53-2111, Revision 01, dated June 21, 2000, as the appropriate source of service information for accomplishing the required actions). The inspection procedures specified in Revision 03 are essentially identical to those specified in Revision 01. Revision 03 revises the thresholds and repetitive intervals for the inspections and thresholds for replacing pick-up angles. No additional work is required by Revision 03 for airplanes inspected in accordance with earlier revisions. Accomplishing the actions specified in the service information is intended to adequately address the unsafe condition. The EASA mandated Service Bulletin A310-53-2111, Revision 03, and issued airworthiness directive 2007-0184, dated July 3, 2007, to ensure the continued airworthiness of these airplanes in the European Union.

Airbus also issued Service Bulletin A310-53-2119, Revision 01, dated February 27, 2007. The service bulletin describes procedures for removing the existing pick-up angles and installing a reinforced doubler between frames (FR) FR40 and FR41, and doing applicable related investigative and corrective actions. The related investigative actions include inspecting the diameters of the holes, and doing a rotating probe inspection of the holes 1 through 70. The corrective actions involve contacting the airplane manufacturer for repair procedures. EASA airworthiness directive 2007-0184 refers to this service bulletin as an optional terminating action for the repetitive inspections specified in Service Bulletin A310-53-2111, Revision 03.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2000-26-14 and would continue to require repetitive detailed inspections to detect cracks propagating from the fasteners holes that attach the left- and right-hand pick-up angles at frame 40 to the wing lower skin and fuselage panel, and corrective actions, if necessary. This proposed AD would revise the intervals for accomplishing the repetitive detailed inspections and would provide for an optional terminating modification for the repetitive inspections.

Change to Existing AD

This proposed AD would retain all requirements of AD 2000-26-14. Since AD 2000-26-14 was issued, the AD format has been revised, and certain paragraphs have been rearranged. As a result, the corresponding paragraph identifiers have changed in this proposed AD, as listed in the following table:

Revised Paragraph Identifiers
Requirement in AD 2000-26-14 | Corresponding requirement in this proposed AD
paragraph (a) | paragraph (f).
paragraph (b) | paragraph (g).
paragraph (c) | paragraph (h).
paragraph (d) | paragraph (i).
paragraph (e) | paragraph (j).
paragraph (f) | paragraph (k).

We also have changed all references to a “detailed visual inspection” in the existing AD to “detailed inspection” in this action.

Costs of Compliance

This proposed AD would affect about 68 Model A310 series airplanes of U.S. registry.

The inspections that are required by AD 2000-26-14 and retained in this proposed AD take about 2 work hours per airplane, at an average labor rate of $80 per work hour. Based on these figures, the estimated cost of the currently required actions is $10,880, or $160 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12064 (66 FR 1031, January 5, 2001) and adding the following new airworthiness directive (AD):

Airbus: Docket No. FAA-2008-0908; Directorate Identifier 2007-NM-190-AD.

Comments Due Date

(a) The FAA must receive comments on this AD action by September 25, 2008.

Affected ADs

(b) This AD supersedes AD 2000-26-14.

Applicability

(c) This AD applies to Airbus Model A310 series airplanes, certificated in any category, except those airplanes modified in-service in accordance with Airbus Service Bulletin A310-53-2119, dated October 25, 2005; or Revision 01, dated February 27, 2007.

Unsafe Condition

(d) This AD results from mandatory continuing airworthiness information originated by an aviation authority of another country to identify and correct an unsafe condition on an aviation product. We are issuing this AD to prevent reduced structural integrity of the airplane due to fatigue damage and consequent cracking of the pick-up angles at frame 40.

Compliance

(e) You are responsible for having the actions required by this AD performed within the compliance times specified, unless the actions have already been done.

Requirements of AD 2000-26-14

Inspections and Corrective Actions

(f) Perform a detailed inspection to detect cracks propagating from the fastener holes that attach the left- and right-hand pick-up angles at frame 40 to the wing lower skin and fuselage panel, at the time specified in paragraph (g), (h), (i), (j) or (k) of this AD, as applicable. Perform the actions in accordance with Figure 2, Sheet 1, “Synoptic Chart,” of Airbus Service Bulletin A310-53A2111, Revision 01, dated June 21, 2000, except as provided by paragraph (l) of this AD.

(1) If no cracking is found during the inspection required by paragraph (f) of this AD, repeat the detailed inspection thereafter at the interval specified in paragraph (f)(1)(i) or (f)(1)(ii) of this AD, as applicable, except as provided by paragraph (n) of this AD.

(i) For Model A310-200 series airplanes: Except as provided by paragraph (i) of this AD, repeat the inspection thereafter at intervals not to exceed 1,000 flight cycles or 2,600 flight hours, whichever occurs first.

(ii) For Model A310-300 series airplanes: Except as provided by paragraphs (i) of this AD, repeat the inspection thereafter at intervals not to exceed 850 flight cycles or 2,800 flight hours, whichever occurs first.

(2) If any cracking is found during the inspection required by paragraph (f) of this AD, prior to further flight, perform applicable corrective actions (including repair (drilling and reaming a crack stop hole in the pick-up angle, performing a Rototest inspection and repetitive detailed inspections at the time specified in the service bulletin, and replacing the pick-up angle with a new angle at the time specified in the service bulletin, except as provided by paragraph (o) of this AD); or immediate replacement of any cracked angle with a new angle). Perform the actions and repetitive inspections in accordance with Figure 2, Sheet 1, “Synoptic Chart,” of Airbus Service Bulletin A310-53A2111, Revision 01, dated June 21, 2000, except as provided by paragraph (l) of this AD.

Note 1: Accomplishment of the actions required by paragraph (f) of this AD in accordance with Airbus Service Bulletin A310-53A2111, dated April 21, 2000, is considered to be acceptable for compliance with the requirements of that paragraph.

Compliance Times

(g) For Model A310-200 series airplanes: Except as provided by paragraphs (i), (j), and (k) of this AD, perform the initial inspection at the later of the times specified in paragraphs (g)(1) and (g)(2) of this AD.

(1) Prior to the accumulation of 7,900 total flight cycles or 23,600 total flight hours, whichever occurs first.

(2) Within 700 flight cycles or 1,200 flight hours after February 9, 2001 (the effective date of AD 2000-26-14), whichever occurs first.

(h) For Model A310-300 series airplanes: Except as provided by paragraphs (i), (j), and (k) of this AD, perform the initial inspection required by paragraph (f) of this AD at the later of the times specified in paragraphs (h)(1) and (h)(2) of this AD.

(1) Prior to the accumulation of 6,700 total flight cycles or 24,700 total flight hours, whichever occurs first.

(2) Within 700 flight cycles or 1,200 flight hours after February 9, 2001, whichever occurs first.

(i) For airplanes that have accumulated more than 18,000 total flight cycles or 53,000 total flight hours as of February 9, 2001: Perform the initial inspection required by paragraph (f) of this AD within 350 flight cycles or 600 flight hours after February 9, 2001, whichever occurs first. Repeat the inspection thereafter at intervals not to exceed 350 flight cycles or 600 flight hours, whichever occurs first.

(j) For airplanes having manufacturer's serial number 0162 through 0326 inclusive, on which Airbus Service Bulletin A310-53-2014 has been accomplished prior to February 9, 2001: The initial inspection threshold may be counted from the date of accomplishment of Airbus Service Bulletin A310-53-2014.

(k) For airplanes on which a pick-up angle has been replaced: For that pick-up angle only, the initial inspection threshold may be counted from the date of installation of the new pick-up angle.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of This AD

New Revisions of Service Bulletin

(l) As of the effective date of this AD, use only the Accomplishment Instructions of Airbus Service Bulletin A310-53-2111, Revision 03, dated May 21, 2007, to do the inspections and corrective actions required by paragraph (f) of this AD; except where Figure 2 Sheet 2 of the service bulletin specifies actions for crack length of “<54 mm (2.126 in.)” and “<69 mm (2.716 in.),” this AD requires the corresponding actions for crack lengths less than or equal to those measurements.

(m) Inspections and applicable corrective actions done before the effective date of this AD in accordance with Airbus Service Bulletin A310-53-2111, Revision 02, dated October 25, 2005, are acceptable for compliance with the requirements of paragraph (f) of this AD.

Revised Repetitive Intervals for Detailed Inspections

(n) As of the effective date of this AD, repeat the detailed inspections for no crack findings required by paragraph (f)(1)(i), (f)(1)(ii), or (i) of this AD, as applicable, at the applicable times specified in Table 1 of this AD, until the modification specified in paragraph (p) of this AD is done.

Table 1—Revised Repetitive Intervals for Certain Detailed Inspections
For model— | Repeat the inspection at the later of the following times— | Repeat the inspection at the later of the following times— | And thereafter at intervals not to exceed—
(1) A310-200 series airplanes | Within 950 flight cycles or 1,900 flight hours since the last inspection required by paragraph (f)(1)(ii) or (i) of this AD, whichever occurs first | Within 50 flight cycles or 250 flight hours after the effective date of this AD, whichever occurs first | 950 flight cycles or 1,900 flight hours, whichever occurs first.
(2) A310-300 series airplanes (short range) | Within 900 flight cycles or 2,550 flight hours since the last inspection required by paragraph (f)(1)(ii) or (i) of this AD, whichever occurs first | Within 50 flight cycles or 250 flight hours after the effective date of this AD, whichever occurs first | 900 flight cycles or 2,550 flight hours, whichever occurs first.
(3) A310-300 series airplanes (long range) | Within 800 flight cycles or 4,000 flight hours since the last inspection required by paragraph (f)(1)(ii) or (i) of this AD, whichever occurs first | Within 50 flight cycles or 250 flight hours after the effective date of this AD, whichever occurs first | 800 flight cycles or 4,000 flight hours, whichever occurs first.

Revised Threshold for Replacing the Pick-Up Angles

(o) As of the effective date of this AD, do the replacement of the pick-up angle required by paragraph (f)(2) of this AD, at the applicable time specified in Table 2 of this AD.

Table 2—Revised Thresholds for Replacing Pick-Up Angles
For model— | Replace at the earlier of the following times—
(1) A310-200 series airplanes | At the time specified in paragraph (f)(2) of this AD for replacing the pick-up angle | Within 1,500 flight cycles or 3,000 flight hours since the last detailed inspection, or within 30 days after the effective date of this AD, whichever occurs later.
(2) A310-300 series airplanes (short range) | At the time specified in paragraph (f)(2) of this AD for replacing the pick-up angle | Within 1,600 flight cycles or 4,600 flight hours since the last detailed inspection, or within 30 days after the effective date of this AD, whichever occurs later.
(3) A310-300 series airplanes (long range) | At the time specified in paragraph (f)(2) of this AD for replacing the pick-up angle | Within 1,400 flight cycles or 7,200 flight hours since the last detailed inspection, or within 30 days after the effective date of this AD, whichever occurs later.

Optional Terminating Modification

(p) Remove the existing pick-up angles and install a reinforced doubler between frames (FR) FR40 and FR41, and perform applicable related investigative and corrective actions by accomplishing all the applicable actions specified in the Accomplishment Instructions of Airbus Service Bulletin A310-53-2119, Revision 01, dated February 27, 2007; except as provided by paragraph (q) of this AD. Accomplishing these actions ends the repetitive inspections required by this AD.

(q) If any crack is detected and Airbus Service Bulletin A310-53-2119, Revision 01, dated February 27, 2007, specifies to contact Airbus: Before further flight, repair the crack using a method approved by either the Manager, International Branch, ANM-116, Transport Airplane Directorate, FAA; or the European Aviation Safety Agency (EASA) (or its delegated agent).

(r) Actions done before the effective date of this AD in accordance with the Accomplishment Instructions of Airbus Service Bulletin A310-53-2119, dated October 25, 2005, are acceptable for compliance with the corresponding requirements of paragraph (p) of this AD.

Alternative Methods of Compliance (AMOCs)

(s) The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO.

Related Information

(t) EASA airworthiness directive 2007-0184, dated July 3, 2007, also addresses the subject of this AD.

Issued in Renton, Washington, on August 18, 2008.
Ali Bahrami,
Manager, Transport Airplane Directorate, Aircraft Certification Service.

[FR Doc. E8-19715 Filed 8-25-08; 8:45 am]

BILLING CODE 4910-13-P